DEPARTMENT OF TRANSPORTATION

Coast Guard

33 CFR Part 165

[COTP Charleston-01-096]

RIN 2115-AA97

Security Zone; Charleston, SC

AGENCY: Coast Guard, DOT.

ACTION: Temporary final rule.

SUMMARY: A temporary security zone is being established in the vicinity of the U.S. Coast Guard Group Charleston Facility Base on the Ashley River in Charleston, South Carolina. This temporary security zone is being established to protect U.S. Coast Guard assets. Entry into this zone is prohibited unless authorized by the Captain of the Port.

DATES: This rule is effective from 6:30 a.m. (EDT) on September 11, 2001 through 6:30 a.m. (EDT) on October 15, 2001.

ADDRESSES: Documents indicated in this preamble as being available in the docket, are part of [COTP Charleston 1-096] and are available for inspection or copying at Marine Safety Office Charleston, 196 Tradd Street, Charleston, SC 29401 between 7:30 a.m. and 4 p.m. Monday through Friday, except Federal holidays.

FOR FURTHER INFORMATION CONTACT: LT James Mahney, Coast Guard Marine Safety Office Charleston, at (843) 724-7686.

SUPPLEMENTARY INFORMATION:

Regulatory Information

We did not publish a notice of proposed rulemaking (NPRM) for this regulation. Under 5 U.S.C. 553(b)(B) and 553(d)(3), the Coast Guard finds that good cause exists for not publishing an NPRM and making these regulations effective less than 30 days after publication in the Federal Register. Publishing an NPRM and delaying the effective date would be contrary to national security interests since immediate action is needed to safeguard from destruction, loss, or injury from sabotage or other subversive acts, accidents, or other cause of a similar nature.

Background and Purpose

Based on the September 11, 2001, terrorist attacks on the World Trade Center buildings in New York and the Pentagon in Arlington, Virginia, there is an increased risk that subversive activity could be launched by vessels or persons in close proximity to the U.S. Coast Guard Group Charleston Facility Base. This security zone will encompass a portion of the Ashley River near this Coast Guard facility. The zone encompasses waters 200 yards up river and 700 yards down river from the Coast Guard pier, from the facility to the centerline of the channel. Buoys, at approximate positions 32°46′45″ N, 79°56′91″ W, and 32°46′13″ N, 079°56′42″ W, mark the length zone. The Coast Guard will issue a broadcast notice to mariners regarding this security zone and Coast Guard vessels will be on scene strictly enforcing the zone.

Regulatory Evaluation

This rule is not a “significant regulatory action” under section 3(f) of Executive Order 12866 and does not require an assessment of potential costs and benefits under section 6(a)(3) of that order. The Office of Management and Budget has not reviewed it under that order. It is not “significant” under the regulatory policies and procedures of the Department of Transportation (DOT) (44 FR 11040, February 26, 1979). The Coast Guard expects the economic impact of this rule to be so minimal that a full Regulatory Evaluation under paragraph 10e of the regulatory policies and procedures of DOT is unnecessary.

Small Entities

Under the Regulatory Flexibility Act (5 U.S.C. 601-612), we considered whether this rule would have a significant economic effect upon a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities as it will only be in effect for a limited time and vessels will be able to transit around the zone.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the Issuance of Federal Regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environmental

The Coast Guard considered the environmental impact of this rule and concluded under Figure 2-1, paragraph 34(g) of Commandant Instruction M16475.1D, this rule is categorically excluded from further environmental documentation.

List of Subjects in 33 CFR Part 165

Harbors, Marine safety, Navigation (water), Reports and recordkeeping requirements, Security measures, Waterways.

PART 165—[AMENDED]

1. The authority citation for part 165 continues to read as follows:

Authority: 33 U.S.C. 1231; 50 U.S.C. 191, 33 CFR 1.05-1(g), 6.04-1, 6.04-6, 160.5; 49 CFR 1.46.

2. A new temporary § 165.T07-096 is added to read as follows:

§ 165.T07-096 Security Zone; U.S. Coast Guard Group Charleston Facility, Charleston, South Carolina.

(a) Location. This security zone will include the area around the U.S. Coast Guard Group Charleston Facility. The zone encompasses waters of the Ashley River 200 yards up river and 700 yards down river from the Coast Guard pier, from the Charleston Facility to the centerline of the channel. Buoys, at approximate positions 32°46′45″ N, 79°56′ 91″ W, and 32°46′13″ N, 79°56′42″ W, mark the length of the zone. The Coast Guard will issue a broadcast notice to mariners and Coast Guard vessels will be on scene strictly enforcing this security zone.

(b) Regulations. In accordance with the general regulations in § 165.33 of this part, entry into and movement within this zone is prohibited except as authorized by the Captain of the Port, or a Coast Guard commissioned, warrant, or petty officer designated by him. The Captain of the Port will notify the public of any changes in the status of this zone by Marine Safety Radio Broadcast on VHF FM Marine Band Radio, Channel 13 or 16.

(c) Dates. This section is effective from 6:30 a.m. (EDT) on September 11, 2001 through 4 p.m. (EDT) on October 15, 2001.

Dated: September 11, 2001.
G.W. Merrick,
Commander, U.S. Coast Guard, Captain of the Port, Charleston, South Carolina.

[FR Doc. 01-23822 Filed 9-24-01; 8:45 am]

BILLING CODE 4910-15-U